DEPARTMENT OF COMMERCE

National Oceanic and Atmospheric Administration

RIN 0648-XD527

Marine Mammals; File No.18727; Correction

AGENCY: National Marine Fisheries Service (NMFS), National Oceanic and Atmospheric Administration Commerce, NOAA.

ACTION: Notice of receipt of application; Correction.

SUMMARY: On October 30, 2014, a notice was published in the Federal Register announcing that the University of Alaska Museum of the North, 907 Yukon Drive, Fairbanks, AK 99775-6960 (Aren Gunderson, Responsible Party), had applied in due form for a permit to collect, import and export specimens of marine mammals for scientific research. That document inadvertently provided incorrect requested take numbers. This document corrects that oversight.

DATES: Written, telefaxed, or email comments must be received on or before January 7, 2015.

FOR FURTHER INFORMATION CONTACT: Brendan Hurley or Jennifer Skidmore, (301) 427-8401.

SUPPLEMENTARY INFORMATION: The notice for File No. 18727 (79 FR 64571; October 30, 2014) contained incorrect take numbers associated with the collection, receipt, import, and export of samples under the proposed action. Accordingly, the SUPPLEMENTARY INFORMATION section is corrected to read as follows:

The subject permit is requested under the authority of the Marine Mammal Protection Act of 1972, as amended (MMPA; 16 U.S.C. 1361, et seq.), the regulations governing the taking and importing of marine mammals (50 CFR part 216), the Endangered Species Act of 1973, as amended (ESA; 16 U.S.C. 1531, et seq.), the regulations governing the taking, importing, and exporting of endangered and threatened species (50 CFR 222-226), and the Fur Seal Act of 1966, as amended (16 U.S.C. 1151, et seq.).

File No. 18727: The University of Alaska Museum of the North functions as an archive for scientific specimens of marine mammals under the jurisdiction of the National Marine Fisheries and is a major repository of marine mammal material from the Arctic and North Pacific oceans. Under the proposed permit, the applicant would (1) import/export marine mammal parts (bones and organ tissue samples) from dead beach-cast carcasses, (2) receive/archive and export samples of marine mammals taken by Alaskan Native subsistence hunters, and (3) receive, import/export specimens from scientists in academic, federal, and state institutions involved in marine mammal research under their own permits. Unlimited samples from up to 2000 pinnipeds (excluding walrus) and 600 cetaceans would be collected, received, imported, or exported annually. Import/export activities would occur world-wide. No live animals would be harassed or taken, lethally or otherwise, under the requested permit. The permit is requested for a five-year period.

All other information contained in the document is unchanged.

Dated: December 2, 2014.
Julia Harrison,
Chief, Permits and Conservation Division, Office of Protected Resources, National Marine Fisheries Service.

[FR Doc. 2014-28637 Filed 12-5-14; 8:45 am]

BILLING CODE 3510-22-P